ENVIRONMENTAL PROTECTION AGENCY

40 CFR Part 52

[EPA-R04-OAR-2020-0129; FRL-8975-02-R4]

Air Plan Approval; AL; NOX SIP Call and Removal of CAIR; Correction

AGENCY: Environmental Protection Agency (EPA).

ACTION: Final rule; correction.

SUMMARY: The Environmental Protection Agency (EPA) published a final rule in the Federal Register on July 7, 2021, entitled “Air Plan Approval; AL; NOX SIP Call and Removal of CAIR.” The July 7, 2021 rule, which became effective on August 6, 2021, contained an error in the amendatory instructions for the regulatory text. This correction does not change any final action taken by EPA in the July 7, 2021, final rule but makes a correction to final regulations.

DATES: This action is effective October 1, 2021.

ADDRESSES: EPA has established a docket for this action under Docket Identification No. EPA-R04-OAR-2020-0129, FRL-10025-80-Region 4. All documents in the docket are listed on the www.regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Andres Febres, Air Regulatory Management Section, Air Planning and Implementation Branch, Air and Radiation Division, U.S. Environmental Protection Agency, Region 4, 61 Forsyth Street SW, Atlanta, Georgia 30303-8960. The telephone number is (404) 562-8966. Mr. Febres can also be reached via electronic mail at febres-martinez.andres@epa.gov.

SUPPLEMENTARY INFORMATION: On July 7, 2021 (86 FR 35610), EPA published a final rule in the Federal Register entitled “Air Plan Approval; AL; NOX SIP Call and Removal of CAIR” which became effective on August 6, 2021. The final rule approved the addition of regulations to Alabama's State Implementation Plan (SIP) to maintain compliance with their nitrogen oxides (NOX) SIP Call obligations for large non-electricity generating units (non-EGUs), the repeal of the State's regulations previously sunsetted regarding the NOx Budget Trading Program, and the repeal of the State's Clean Air Interstate Rule (CAIR) regulations.¹ Additionally, the final rule conditionally approved state regulations into the SIP that establish monitoring and reporting requirements for units subject to the NOX SIP Call, including alternative monitoring options for certain sources.

¹ See 86 FR 35610 (July 7, 2021) for information on the NOX SIP Call, NOX Budget Trading Program, and CAIR.

However, the rule contained two errors in the instructions regarding amendments to the table titled “EPA-Approved Alabama Regulations” found at 40 CFR 52.50(c). See 86 FR at 35614. Because of the errors in the amendatory instructions, the Office of the Federal Register was not able to incorporate some of the changes and placed an editorial note at the bottom of 40 CFR 52.50. Although the rational for incorporating these changes remains the same as presented in the July 7, 2021, rule, EPA is now correcting the CFR to appropriately display the approved rules in the South Carolina SIP.

List of Subjects in 40 CFR Part 52

Environmental protection, Air pollution control, Incorporation by reference, Intergovernmental relations, Nitrogen dioxide, Ozone, Particulate matter, Reporting and recordkeeping requirements, Sulfur oxides.

Dated: September 9, 2021.
John Blevins,
Acting Regional Administrator, Region 4.

For the reasons set out in the preamble, the EPA corrects 40 CFR part 52 by making the following correcting amendment:

PART 52—APPROVAL AND PROMULGATION OF IMPLEMENTATION PLANS

1. The authority citation for part 52 continues to read as follows:

Authority: 42 U.S.C. 7401 et seq.

2. In Section 52.50 amend the table in paragraph (c) by revising the entries for sections:

a. 335-3-5-.06 through 335-3-5-.08;

b. 335-3-5-.11 through 335-3-5-.14;

c. 335-3-8-.07 through 335-3-8-.14;

d. 335-3-8-.16 through 335-3-8-.18;

e. 335-3-8-.20 and 335-3-8-.21;

f. 335-3-8-.23 through 335-3-8-.27; and

g. 335-3-8-.29, 335-3-8-.30, and 335-3-8-.33.

The revisions read as follows:

§ 52.50 Identification of plan.

* * * * *

(c) * * *

EPA-Approved Alabama Regulations
State citation | Title/subject | State effective date | EPA approval date | Explanation
* * * * * * *
Chapter No. 335-3-5 Control of Sulfur Compound Emissions
* * * * * * *
Section 335-3-5-.06 | TR SO2 Trading Program—Purpose and Definitions | 11/24/2015 | 8/31/2016, 81 FR 59869
Section 335-3-5-.07 | TR SO2 Trading Program—Applicability | 11/24/2015 | 8/31/2016, 81 FR 59869
Section 335-3-5-.08 | TR SO2 Trading Program—Retired Unit Exemption | 11/24/2015 | 8/31/2016, 81 FR 59869
* * * * * * *
Section 335-3-5-.11 | Administrative Appeal Procedures | 11/24/2015 | 8/31/2016, 81 FR 59869
Section 335-3-5-.12 | SO2 Trading Budgets and Variability Limits | 11/24/2015 | 8/31/2016, 81 FR 59869
Section 335-3-5-.13 | TR SO2 Allowance Allocations | 12/7/2018 | 3/12/2020, 85 FR 14418
Section 335-3-5-.14 | Authorization of Designated Representative and Alternate Designated Representative | 11/24/2015 | 8/31/2016, 81 FR 59869
* * * * * * *
Chapter No. 335-3-8 Control of Nitrogen Oxides Emissions
* * * * * * *
Section 335-3-8-.07 | TR NOX Annual Trading Program—Purpose and Definitions | 11/24/2015 | 8/31/2016, 81 FR 59869
Section 335-3-8-.08 | TR NOX Annual Trading Program—Applicability | 11/24/2015 | 8/31/2016, 81 FR 59869
Section 335-3-8-.09 | TR NOX Annual Trading Program—Retired Unit Exemption | 11/24/2015 | 8/31/2016, 81 FR 59869
Section 335-3-8-.10 | TR NOX Annual Trading Program—Standard Requirements | 11/24/2015 | 8/31/2016, 81 FR 59869
Section 335-3-8-.11 | TR NOX Annual Trading Program—Computation of Time | 11/24/2015 | 8/31/2016, 81 FR 59869
Section 335-3-8-.12 | Administrative Appeal Procedures | 11/24/2015 | 8/31/2016, 81 FR 59869
Section 335-3-8-.13 | NOX Annual Trading Budgets and Variability Limits | 11/24/2015 | 8/31/2016, 81 FR 59869
Section 335-3-8-.14 | TR NOX Annual Allowance Allocations | 12/7/2018 | 3/12/2020, 85 FR 14418
Section 335-3-8-.16 | Authorization of Designated Representative and Alternate Designated Representative | 11/24/2015 | 8/31/2016, 81 FR 59869
Section 335-3-8-.17 | Responsibilities of Designated Representative and Alternate Designated Representative | 11/24/2015 | 8/31/2016, 81 FR 59869
Section 335-3-8-.18 | Changing Designated Representative and Alternate Designated Representative; Changes in Owners and Operators; Changes in Units at the Source | 11/24/2015 | 8/31/2016, 81 FR 59869
* * * * * * *
Section 335-3-8-.20 | Objections Concerning Designated Representative and Alternate Designated Representative | 11/24/2015 | 8/31/2016, 81 FR 59869
Section 335-3-8-.21 | Delegation by Designated Representative and Alternate Designated Representative | 11/24/2015 | 8/31/2016, 81 FR 59869
Section 335-3-8-.23 | Establishment of Compliance Accounts, Assurance Accounts, and General Accounts | 11/24/2015 | 8/31/2016, 81 FR 59869
Section 335-3-8-.24 | Recordation of TR NOX Annual Allowance Allocations and Auction Results | 11/24/2015 | 8/31/2016, 81 FR 59869
Section 335-3-8-.25 | Submission of TR NOX Annual Allowance Transfers | 11/24/2015 | 8/31/2016, 81 FR 59869
Section 335-3-8-.26 | Recordation of TR NOX Annual Allowance Transfers | 11/24/2015 | 8/31/2016, 81 FR 59869
Section 335-3-8-.27 | Compliance with TR NOX Annual Emissions Limitation | 11/24/2015 | 8/31/2016, 81 FR 59869
* * * * * * *
Section 335-3-8-.29 | Banking | 11/24/2015 | 8/31/2016, 81 FR 59869
Section 335-3-8-.30 | Account Error | 11/24/2015 | 8/31/2016, 81 FR 59869
* * * * * * *
Section 335-3-8-.33 | General Monitoring, Recordkeeping, and Reporting Requirements | 11/24/2015 | 8/31/2016, 81 FR 59869
* * * * * * *

* * * * *

[FR Doc. 2021-20072 Filed 9-30-21; 8:45 am]

BILLING CODE 6560-50-P